COMMISSION ON CIVIL RIGHTS

Notice of Public Meeting of the Oklahoma Advisory Committee for a Meeting To Discuss and Vote Upon a Project Proposal Regarding the School to Prison Pipeline in Oklahoma; Correction

AGENCY: U.S. Commission on Civil Rights.

ACTION: Notice of meeting; Correction.

SUMMARY: The U.S. Commission on Civil Rights published a document in the Federal Register of March 9, 2015, concerning a meeting of the Oklahoma Advisory Committee to discuss and vote on a project proposal regarding the school to prison pipeline in Oklahoma. The document contained incorrect times and phone numbers.

FOR FURTHER INFORMATION CONTACT: David Mussatt, 312-353-8311.

Correction

In the Federal Register of March 9, 2015, 80 FR 12432, in the first column, correct the second sentence of the second paragraph in the “Summary” caption to read:

This meeting is available to the public through the following toll-free call-in number: 888-811-5448, conference ID: 7610695.

Correction

In the Federal Register of March 9, 2015, 80 FR 12432, in the third column, correct the “Public Call Information” caption to read:

Dial: 888-811-5448.

Conference ID: 7610695.

Correction

In the Federal Register of March 9, 2015, 80 FR 12432, in the second column, correct the “Agenda” caption to read:

AGENDA

Welcome and Introductions

4:00 p.m. to 4:05 p.m.

Vicki Limas, Chair

Discussion of Proposal on School to Prison Pipeline in Oklahoma

4:05 p.m. to 4:35 p.m.

Oklahoma Advisory Committee

Planning Next Steps

4:35 p.m. to 5:00 p.m.

Adjournment

5:00 p.m.

Correction

In the Federal Register of March 9, 2015, 80 FR 12432, in the third column, correct the “Date” caption to read:

Date: The meeting will be held on Friday, March 27, 2015, at 4:00 p.m. CST.

Dated: March 10, 2015.
David Mussatt,
Chief, Regional Programs Unit.

[FR Doc. 2015-05849 Filed 3-13-15; 8:45 am]

BILLING CODE 6335-01-P